DEPARTMENT OF HEALTH AND HUMAN SERVICES

Centers for Disease Control and Prevention

[60Day-22-22GG; Docket No. CDC-2022-0077]

Pilot Plan for Data Collection Tools for the Interim Local Health Department Strategy for Response, Control, and Prevention of Healthcare Associated Infections (HAI) and Antibiotic Resistance (AR)

AGENCY: Centers for Disease Control and Prevention (CDC), Department of Health and Human Services (HHS).

ACTION: Notice with comment period.

SUMMARY: The Centers for Disease Control and Prevention (CDC), located within the Department of Health and Human Services, as part of its continuing effort to reduce public burden and maximize the utility of government information, invites the general public and other Federal agencies the opportunity to comment on a proposed information collection, as required by the Paperwork Reduction Act of 1995. This notice invites comment on a proposed information collection project titled Pilot Plan for the Interim Local Health Department Strategy for Response, Control, and Prevention of Healthcare Associated Infections (HAI) and Antibiotic Resistance (AR). The proposed collection is designed to strengthen local and regional capacity to respond to, control, and prevent HAI/AR across all healthcare settings and in the community by supporting enhanced coordination between state and local partners and by promoting local public health, healthcare, and community partner networks.

DATES: CDC must receive written comments on or before August 16, 2022.

ADDRESSES: You may submit comments, identified by Docket No. CDC-2022-0077, by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Pilot Plan for the Interim Local Health Department Strategy for Response, Control, and Prevention of Healthcare Associated Infections (HAI) and Antibiotic Resistance (AR)—New—National Center for Emerging and Zoonotic Infectious Diseases (NCEZID), Centers for Disease Control and Prevention (CDC).

Background and Brief Description

The Centers for Disease Control and Prevention (CDC) Division of Healthcare Quality Promotion (DHQP) recently developed an Interim Local Health Department Strategy for Response, Control, and Prevention of Healthcare Associated Infections (HAI) and Antibiotic Resistance (AR). CDC's vision is to strengthen local and regional capacity to respond to, control, and prevent HAI/AR across all healthcare settings and in the community by supporting enhanced coordination between state and local partners and by promoting local public health, healthcare, and community partner networks. This vision can be achieved with collaboration between local, state, and federal public health entities, and partners. This strategy aims to strengthen local health departments (LHD) by focusing on three main goals: (1) growing strong partner networks; (2) building internal operational capacity; and (3) expanding the scope of programmatic activities to effectively address HAI/AR in their jurisdictions.

CDC's next steps include piloting the strategy with local health departments in part through a cooperative agreement with the National Association for County and City Health Officials (NACCHO) and is proposing this data collection to gather information from LHDs during that pilot phase. The strategy was developed to highlight and support the important role LHDs play in preventing, responding to, and controlling HAI and AR related events. The HAI/AR activities that are conducted by LHDs vary widely and depend on many factors such as staff capacity and expertise, governance structures and public health authorities, prevalence of emerging HAI/AR diseases, types, and organization of healthcare facilities in the jurisdiction, population demographics, local relationships, and nature of collaborations with the state HAI/AR program. While the specific activities and responsibilities of LHDs will vary, the unique roles and assets of LHDs make them critical players in the prevention and control of HAI/AR infections. LHDs can build relationships in their local communities and may be well-positioned to understand and respond to the health needs of their communities. There is much to be learned and many best practices to be shared from LHD working in HAI/AR. Engaging with LHDs is essential for DHQP to connect to other priority areas such as focusing on rural areas, healthcare preparedness, and health equity considerations. Additionally, a local engagement strategy will help DHQP expand their activities to focus on connecting with LHDs that directly work between healthcare and public health groups, especially to continue work and partnerships begun by COVID-19 task forces.

The data collection and subsequent data analysis will identify themes and commonalities that will be used to make updates to the strategy and identify areas of support for LHDs seeking to grow their capacity for HAI/AR activities. CDC requests OMB approval for an estimated 390 annual burden hours. There are no costs to respondents other than their time to participate.

Estimated Annualized Burden Hours
Type of respondents | Form name | Number of respondents | Number of responses per respondent | Average burden per response (in hours) | Total burden hours (in hours)
Voluntary LHD Participants | LHD HAI/AR Strategy Pilot Feedback Form | 30 | 1 | 4 | 120
Voluntary LHD Participants | LHD HAI/AR Strategy Pilot Interview Guide Survey | 30 | 1 | 1 | 30
Voluntary LHD Participants | LHD HAI/AR Strategy Pilot Survey for Review and Implement | 30 | 1 | 2 | 60
NACCHO CoAg LHD Participants | LHD HAI/AR Strategy Pilot Survey | 30 | 1 | 2 | 60
NACCHO CoAg LHD Participants | LHD HAI/AR Strategy Pilot Feedback Form | 30 | 1 | 4 | 120
Total |  |  |  |  | 390

Jeffrey M. Zirger,
Lead, Information Collection Review Office, Office of Scientific Integrity, Office of Science, Centers for Disease Control and Prevention.

[FR Doc. 2022-13095 Filed 6-16-22; 8:45 am]

BILLING CODE 4163-18-P